DEPARTMENT OF COMMERCE

International Trade Administration

[A-570-836]

Glycine From the People's Republic of China: Continuation of Antidumping Duty Order

AGENCY: Enforcement and Compliance, International Trade Administration, Department of Commerce.

SUMMARY: As a result of the determinations by the Department of Commerce (the Department) and the U.S. International Trade Commission (USITC) that revocation of the antidumping duty order on glycine from the People's Republic of China (the PRC) would likely lead to continuation or recurrence of dumping and material injury to an industry in the United States, the Department is publishing a notice of continuation of this antidumping duty order.

DATES: Effective February 15, 2017.

FOR FURTHER INFORMATION CONTACT: Dena Crossland or Brian Davis, AD/CVD Operations, Office VI, Enforcement and Compliance, U.S. Department of Commerce, 1401 Constitution Avenue NW., Washington, DC 20230; telephone (202) 482-3362 or (202) 482-7924, respectively.

SUPPLEMENTARY INFORMATION:

Background

On March 29, 1995, the Department published the antidumping duty order on glycine from the PRC.¹ On August 1, 2016, the Department initiated a sunset review of the Order in accordance with section 751(c) of the Tariff Act of 1930, as amended (the Act).²

¹ See Glycine from the People's Republic of China: Antidumping Duty Order, 60 FR 16116 (March 29, 1995) (Order).

² See Initiation of Five-Year (“Sunset”) Review, 81 FR 50462 (August 1, 2016).

As a result of this sunset review, the Department determined that revocation of the Order would likely lead to continuation or recurrence of dumping and, therefore, notified the USITC of the magnitude of the margins of dumping likely to prevail should the order be revoked.³ On February 3, 2017, the USITC published its determination, pursuant to section 751(c) of the Act, that revocation of the Order would be likely to lead to continuation or recurrence of material injury to an industry in the United Sates within a reasonably foreseeable time.⁴

³ See Glycine from the People's Republic of China: Final Results of the Expedited Sunset Review of the Antidumping Duty Order, 81 FR 88663 (December 8, 2016) and accompanying Issues and Decision Memorandum.

⁴ See Glycine from China; Determination, 82 FR 9223 (February 3, 2017), and USITC Publication 4667 (January 2017), entitled Glycine from China: Investigation No. 731-TA-718 (Fourth Review).

Scope of the Order

The product covered by the order is glycine, which is a free-flowing crystalline material, like salt or sugar. Glycine is produced at varying levels of purity and is used as a sweetener/taste enhancer, a buffering agent, reabsorbable amino acid, chemical intermediate, and a metal complexing agent. This order covers glycine of all purity levels. Glycine is currently classified under subheading 2922.49.4020 of the Harmonized Tariff Schedule of the United States (HTSUS). Although the HTSUS subheading is provided for convenience and Customs purposes, the written description of the merchandise under the order is dispositive.⁵

⁵ In a separate scope ruling, the Department determined that D(-) Phenylglycine Ethyl Dane Salt is outside the scope of the Order. See Notice of Scope Rulings, 62 FR 62288 (November 21, 1997).

Continuation of the Order

As a result of the determinations by the Department and the USITC that revocation of the Order would be likely to lead to continuation or recurrence of dumping and material injury to an industry in the United States, pursuant to section 751(d)(2) of the Act, the Department hereby orders the continuation of the Order.

U.S. Customs and Border Protection will continue to collect cash deposits of estimated antidumping duties at the rates in effect at the time of entry for all imports of subject merchandise. The effective date of the continuation of this order will be the effective date listed above. Pursuant to section 751(c)(2) of the Act, the Department intends to initiate the next sunset review of this order not later than 30 days prior to the fifth anniversary of the effective date of continuation.

This five-year (sunset) review and this notice are in accordance with sections 751(c) and 777(i)(1) of the Act and 19 CFR 351.218(f)(4).

Dated: February 9, 2017.
Ronald K. Lorentzen,
Acting Assistant Secretary for Enforcement and Compliance.

[FR Doc. 2017-03048 Filed 2-14-17; 8:45 am]

BILLING CODE 3510-DS-P